FEDERAL ELECTION COMMISSION

Sunshine Act Meetings

FEDERAL REGISTER CITATION NOTICE OF PREVIOUS ANNOUNCEMENT: 89 FR 97617.

PREVIOUSLY ANNOUNCED TIME AND DATE OF THE MEETING: Thursday, December 12, 2024 at 10 a.m., Hybrid Meeting: 1050 First Street NE, Washington, DC (12th Floor) and Virtual.

CHANGES IN THE MEETING: The following item was also discussed: Statement of Policy Regarding the Notification of Respondents in Matters Under Review Remanded from a Challenge Pursuant to 52 U.S.C. 3019(a)(8).

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2024-30054 Filed 12-13-24; 4:15 pm]

BILLING CODE 6715-01-P